DEPARTMENT OF THE TREASURY

Submission for OMB Review; Comment Request

December 22, 2011

The Department of the Treasury will submit the following information collection request to the Office of Management and Budget (OMB) for review and clearance in accordance with the Paperwork Reduction Act of 1995, Public Law 104-13, on or after the date of publication of this notice.

DATES: Comments should be received on or before January 27, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 11020, Washington, DC 20220, or on-line at www.PRAComment.gov.

FOR FURTHER INFORMATION CONTACT: Copies of the submission(s) may be obtained by calling (202) 927-5331, email at PRA@treasury.gov, or the entire information collection request maybe found at www.reginfo.gov.

Office of Foreign Assets Control

OMB Number: 1505-0168.

Type of Review: Revision a currently approved collection.

Title: Travel Service Provider and Carrier Service Provider Submission.

Abstract: The information is required of persons who have been authorized by the Office of Foreign Assets Control of the Department of the Treasury (OFAC) to handle travel arrangements to, from, and or within Cuba or to provide charter air service to Cuba. Travel service providers are required to collect information on persons traveling on direct flights to Cuba and forward that information to carrier service providers, for ultimate submission to OFAC.

Affected Public: Private Sector: Businesses or other for-profits; Individuals and Households.

Estimated Total Annual Burden Hours: 33,334.

Dawn D. Wolfgang,
Treasury PRA Clearance Officer.

[FR Doc. 2011-33277 Filed 12-27-11; 8:45 am]

BILLING CODE 4810-25-P